DEPARTMENT OF JUSTICE

Office of Justice Programs

[OJP (NIJ) Docket No. 1546]

Extension of Time for Comments on NIJ Draft Vehicular Digital Multimedia Evidence Recording System Certification Program Requirements for Law Enforcement; Correction Regarding NIJ Draft Law Enforcement Vehicular Digital Multimedia Evidence Recording System Selection and Application Guide

AGENCY: National Institute of Justice, DOJ.

ACTION: Notice and Request for Comments.

SUMMARY: The U.S. Department of Justice, Office of Justice Programs, National Institute of Justice (NIJ) published a notice in the Federal Register of March 11, 2011, announcing a call for comments on two draft documents:

• “Vehicular Digital Multimedia Evidence Recording System Certification Program Requirements for Law Enforcement”

• “Law Enforcement Vehicular Digital Multimedia Evidence Recording System Selection and Application Guide”

Due to a clerical error, only one document, “Vehicular Digital Multimedia Evidence Recording System Certification Program Requirements for Law Enforcement,” is currently posted on the JustNet Web site (http://www.justnet.org) at this time. NIJ will extend the deadline for those who wish to submit comments regarding this document from April 25, 2011, to the date specified below.

NIJ's “Law Enforcement Vehicular Digital Multimedia Evidence Recording System Selection and Application Guide” is not available for public comment at this time. NIJ anticipates that this document will be available at a future date, and plans to publish a separate notice announcing its availability and soliciting comments on it at that time.

DATES: The comment period for NIJ's “Vehicular Digital Multimedia Evidence Recording System Certification Program Requirements for Law Enforcement” will be open until May 23, 2011.

FOR FURTHER INFORMATION CONTACT: Casandra Robinson, by telephone at 202-305-2596 [Note: this is not a toll-free telephone number], or by e-mail at casandra.robinson@usdoj.gov.

John H. Laub,
Director, National Institute of Justice.

[FR Doc. 2011-8208 Filed 4-5-11; 8:45 am]

BILLING CODE 4410-18-P